NATIONAL FOUNDATION ON THE ARTS AND THE HUMANITIES

Institute of Museum and Library Services

Notice of Proposed Information Collection Requests: 2028-2032 IMLS Grants to States Five-Year State Plan Guidelines for State Library Administrative Agencies

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments related to the 2028-2032 IMLS Grants to States Five-Year State Plan Guidelines for State Library Administrative Agencies instructions. A copy of the proposed information collection request can be obtained by contacting the individual listed below in the ADDRESSES section of this notice.

DATES: Written comments must be submitted to the office listed in the addressee section below on or before January 31, 2024.

ADDRESSES: Send comments to Sandra Narva, Acting Director of Grants Policy and Management, Office of Grants Policy and Management, Institute of Museum and Library Services, 955 L'Enfant Plaza North, SW, Suite 4000, Washington, DC 20024-2135. Ms. Narva can be reached by telephone: 202-653-4634, or by email at snarva@imls.gov. Office hours are from 8:30 a.m. to 5 p.m., E.T., Monday through Friday, except Federal holidays. Persons who are deaf or hard of hearing (TTY users) can contact IMLS at 202-207-7858 via 711 for TTY-Based Telecommunications Relay Service.

FOR FURTHER INFORMATION CONTACT: Teri DeVoe, Associate Deputy Director for Grants to States, Office of Library Services, Institute of Museum and Library Services, 955 L'Enfant Plaza North, SW, Suite 4000, Washington DC 20024-2135. Ms. DeVoe can be reached by telephone at 202-653-4778, or by email at tdevoe@imls.gov. Persons who are deaf or hard of hearing (TTY users) can contact IMLS at 202-207-7858 via 711 for TTY-Based Telecommunications Relay Service.

SUPPLEMENTARY INFORMATION: IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

IMLS is the primary source of Federal support for the Nation's libraries and museums. We advance, support, and empower America's museums, libraries, and related organizations through grant making, research, and policy development. To learn more, visit www.imls.gov.

II. Current Actions

This Notice proposes the clearance of the 2028-2032 IMLS Grants to States Program Five-Year State Plan Guidelines for State Library Administrative Agencies.

The Grants to States program is the largest grant program administered by IMLS, providing financial assistance to develop library services throughout the States, U.S. Territories, and the Freely Associated States. To receive funds under the Grants to States program, each established State Library Administrative Agency (SLAA) must submit to the Director of IMLS a Five-Year State Plan detailing certain goals, assurances, and procedures for a five-year period. 20 U.S.C. 9134(a). The upcoming five-year period will cover Federal fiscal years 2028-2032, with Five-Year State Plans due to IMLS on June 30, 2027. The Five-Year State Plan identifies a State's library needs, sets forth the activities to be taken toward meeting the identified needs supported with the assistance of Federal funds made available under the Library Services and Technology Act (LSTA), and provides assurances that the officially designated SLAA has the fiscal and legal authority and capability to administer all aspects of any award under the Grants to States program. 20 U.S.C. 9122(5). The Five-Year State Plan must also provide assurances for establishing the State's policies, priorities, criteria, and procedures necessary to the implementation of all programs under the LSTA. 20 U.S.C. 9122(5).

Agency: Institute of Museum and Library Services.

Title: 2028-2032 IMLS Grants to States Five-Year State Plan Guidelines for State Library Administrative Agencies.

OMB Number: 3137-0029.

Agency Number: 3137.

Respondents/Affected Public: State Library Administrative Agencies.

Total Estimated Number of Annual Respondents: TBD.

Frequency of Response: Once every five years.

Estimated Average Burden per Response: TBD.

Estimated Total Annual Burden: TBD.

Cost Burden (dollars): TBD.

Public Comments Invited: Comments submitted in response to this notice will be summarized and/or included in the request for OMB's clearance of this information collection.

Dated: November 28, 2023.
Suzanne Mbollo,
Grants Management Specialist, Institute of Museum and Library Services.

[FR Doc. 2023-26487 Filed 11-30-23; 8:45 am]

BILLING CODE 7036-01-P